DEPARTMENT OF TRANSPORTATION

Federal Aviation Administration

[Policy Statement No. PS-ANM100-2004-10021]

Installation of “No Stowage” Placards on a Surface Not Designed or Intended To Be Used for Stowage

AGENCY: Federal Aviation Administration (FAA), DOT.

ACTION: Notice of proposed policy; request for comments.

SUMMARY: The Federal Aviation Administration (FAA) announces the availability of proposed policy on installation of “no stowage” placards on surfaces not designed or intended to be used for stowage.

DATES: Send your comments on or before April 26, 2004.

ADDRESSES: Address your comments to the individual identified under FOR FURTHER INFORMATION CONTACT.

FOR FURTHER INFORMATION CONTACT: Michael T. Thompson, Federal Aviation Administration, Transport Airplane Directorate, Transport Standards Staff, Airframe and Cabin Safety Branch, ANM-115, 1601 Lind Avenue, SW., Renton, WA 98055-4056; telephone (425) 227-1157; fax (425) 227-1232; e-mail: Michael.T.Thompson@faa.gov.

SUPPLEMENTARY INFORMATION:

Comments Invited

The proposed policy is available on the Internet at the following address: http://www.airweb.faa.gov/rgl. If you do not have access to the Internet, you can obtain a copy of the policy by contacting the person listed under FOR FURTHER INFORMATION CONTACT.

The FAA invites your comments on this proposed policy. We will accept your comments, data, views, or arguments by letter, fax, or e-mail. Send your comments to the person indicated in FOR FURTHER INFORMATION CONTACT. Mark your comments, “Comments to Policy Statement No. PS-ANM100-2004-10021.”

Use the following format when preparing your comments:

• Organize your comments issue-by-issue.

• For each issue, state what specific change you are requesting to the proposed policy.

• Include justification, reasons, or data for each change you are requesting.

We also welcome comments in support of the proposed policy.

We will consider all communications received on or before the closing date for comments. We may change the proposed policy because of the comments received.

Background

If has been brought to the attention of the Transport Airplane Directorate, Transport Standards Staff that an aircraft certification office has, in some instances, required an applicant to install “No Stowage” or “No Stowage During Taxi, Takeoff and Landing” placards on some surfaces that were not designed or intended to be used for stowage. Although not designed for stowage, these surfaces could, because of their shapes and locations, accommodate the placement of articles upon them. The placards were intended to address a concern that carry-on or other articles, not on the airplane type design, could be inappropriately stowed there and, in case of an accident or severe turbulence, become injurious projectiles. The Staff has investigated this practice and determined that the part 25 regulations relating to the stowage of cargo, baggage, carry-on articles and equipment do not require the installation of these placards for surfaces such as these. Therefore, while an applicant may be encouraged to install such placards, they cannot be required to install the placards.

This policy memorandum is meant to address surfaces that are clearly not intended to be stowage compartments, which must meet the requirements of § 25.787.

Issued in Renton, Washington, on March 16, 2004.
Michael Kaszycki,
Acting Manager, Transport Airplane Directorate, Aircraft Certification Service.

[FR Doc. 04-6750 Filed 3-25-04; 8:45 am]

BILLING CODE 4910-13-M